DEPARTMENT OF THE INTERIOR

Geological Survey

Technology Transfer Act of 1986

AGENCY: Geological Survey.

ACTION: Notice of proposed Cooperative Research & Development Agreement (CRADA) Negotiations.

SUMMARY: The United States Geological Survey (USGS) is contemplating entering into a Cooperative Research and Development Agreement (CRADA) with High Altitude Mapping Missions, Inc. for the purpose of testing and developing high altitude Large Area Mapping Technology.

Inquiries: If any other parties are interested in similar activities with the USGS, please contact Thomas Hildenbrand, USGS-MS 989, 345 Middlefield Rd., Menlo Park, CA 94025; phone (650) 329-5303.

SUPPLEMENTARY INFORMATION: This notice is submitted to meet the USGS policy requirements stipulated in Survey Manual Chapter 500.20.

Dated: February 5, 2002.
P. Patrick Leahy,
Associate Director for Geology.

[FR Doc. 02-3736 Filed 2-14-02; 8:45 am]

BILLING CODE 4310-Y7-M